DEPARTMENT OF COMMERCE

National Oceanic and Atmospheric Administration

RIN 0648-XD343

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: We are considering issuing an Exempted Fishing Permit to allow the Commercial Fisheries Research Foundation to continue to explore the use of several data recording devices in an industry-based study that would effectively relay more accurate, detailed, and timely American lobster data to fisheries managers and scientists. The Commercial Fisheries Research Foundation is also proposing to use vent-less traps in order to determine the abundance and distribution of juvenile American lobsters in Lobster Management Areas 2 and 3.

The Exempted Fishing Permit renewal application is complete and further consideration of the application is warranted per § 600.745, and the activities authorized under the Exempted Fishing Permit would be consistent with the goals and objectives of the Interstate Fisheries Management Plan for American lobster. Regulations under the Magnuson-Stevens Fishery Conservation and Management Act require publication of this notification to provide interested parties the opportunity to comment on applications for proposed Exempted Fishing Permits.

DATES: Comments must be received on or before August 4, 2014.

ADDRESSES: Comments on this notice may be submitted by email. The mailbox address for providing email comments is nmfs.gar.efp@noaa.gov. Include in the subject line “Comments on CFRF Lobster EFP.”

Written comments should be sent to: John K. Bullard, Regional Administrator, NMFS, Greater Atlantic Regional Fisheries Office, 55 Great Republic Drive, Gloucester, MA 01930. Mark the outside of the envelope “Comments on CFRF Lobster EFP.”

FOR FURTHER INFORMATION CONTACT: Maria Jacob, Environmental Technician, 978-281-9180.

SUPPLEMENTARY INFORMATION: The Commercial Fisheries Research Foundation (CFRF) submitted a complete application for a 1-year renewal to an existing Exempted Fishing Permit (EFP) on May 15, 2014. To conduct its research on the abundance and distribution of juvenile American lobster in Lobster Management Areas (LMAs) 2 and 3, the CFRF is requesting exemptions from the following Federal lobster regulations: (1) Gear specifications to allow for closed escape vents, as prohibited in § 697.21(c); (2) trap limits to be exceeded by 3 additional traps per fishing vessel, for a total of 36 additional traps, as prohibited in § 697.19(a)(2) for LMA 2, and § 697.19(b)(5) for LMA 3; and (3) trap tag requirements, as specified in § 697.19(f). This study would utilize 12 Federal commercial fishing vessels; 6 vessels in each of the 2 management areas. One additional vessel would operate as an alternate vessel, so there would only be 12 active vessels at any given time. Sampling would take place in the following statistical areas: 464 (Area 3 region); 512 (Area 3 region); 515; 525; 526; 537; 538; 539; 561; 562; and 616.

Funding for this study will be provided through NOAA grant NA09NMF4720414, as part of the Southern New England Collaborative Research Initiative Program (SNECRI). One of the main objectives of the SNECRI is to improve collection and management of fishery-dependent data. This study would attempt to achieve this goal.

The study would take place during regular fishing activity, and sampling would take place on each vessel in Area 2 once per week during scheduled fishing trips, and once every 10 days in Area 3 during scheduled fishing trips. If an EFP is granted, there would be an additional 36 modified traps in the water during any given time, for a period of one year. Each participating vessel would have up to three modified traps attached to a regular trap trawl, to be hauled every 6 to 9 days. The addition of 36 modified traps would increase the total number of traps in the fishery by 0.003 percent.

Modifications to a conventional lobster trap would include a closed escape vent, single parlor, smaller mesh size, and smaller entrance head. These modified traps would be attached to one, two, or three randomly selected trap trawl(s) during regular fishing operations. Lobsters retrieved from these modified traps would remain onboard for a short period of time to allow for sampling, after which they would be returned to the water.

Biological information will be collected on both kept and discarded lobsters, including: Carapace length; sexual determination; and presence of eggs, v-notches, and shell disease. For every trap trawl hauled during a designated sampling trip, commercial fishermen would be expected to sample 100 lobsters, or 20 traps if there are less than 100 lobsters to sample in a randomly chosen trap trawl. This study would use several recording devices, including onboard electronic calipers for length measurements, video cameras, and waterproof tablets. Data will be recorded using waterproof tablets, and the information will be uploaded using wireless internet connection once the vessel returns to port.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 15, 2014.
Emily H. Menashes,
Acting Director, Office of Sustainable Fisheries, National Marine Fisheries Service.

[FR Doc. 2014-16993 Filed 7-17-14; 8:45 am]

BILLING CODE 3510-22-P